NATIONAL FOUNDATION ON THE ARTS AND THE HUMANITIES

Institute of Museum and Library Services

Submission for OMB Review, Comment Request, Proposed Collection: IMLS “2019-2022 Native Hawaiian Library Grant Program Notice of Funding Opportunity”

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the IMLS “2019-2022 Native Hawaiian Grant Program Notice of Funding Opportunity” for the next three years.

A copy of the proposed information collection request can be obtained by contacting the individual listed below in the ADDRESSES section of this notice.

DATES: Comments must be submitted to the office listed in the FOR FURTHER INFORMATION CONTACT section below on or before August 27, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718, Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: IMLS is requesting the approval of the Notice of Funding Opportunity for the following grant program for the next three years. Native Hawaiian grants are competitive grants available to carry out activities, described in 20 U.S.C. 9141, that enhance existing library services or implement new library services. Native Hawaiian Library Services grants are available to nonprofit organizations that primarily serve and represent Native Hawaiians (as the term is defined in 20 U.S.C. 7517). The term “Native Hawaiian” refers to an individual who is a citizen of the United States and a descendant of the aboriginal people who, before 1778, occupied and exercised sovereignty in the area that now comprises the State of Hawaii. Successful Native Hawaiian grant projects should result in measureable changes and outcomes, such as increased understanding, interest, and confidence among participants. Successful Native Hawaiian grant projects support the activities described in 20 U.S.C. 9141, for example:

• Support for individuals' needs for education, lifelong learning, workforce development, and digital literacy skills;

• improvement of the quality of and access to library and information services; and

• enhancement of the skills of the current library workforce and leadership.

This action is to renew the forms and instructions for the Notice of Funding Opportunities for the next three years.

Agency: Institute of Museum and Library Services.

Title: 2019-2021 IMLS Native Hawaiian Program Notice of Funding Opportunity.

OMB Number: 3137-0102.

Frequency: Once per year.

Affected Public: Nonprofit organizations that primarily serve and represent Native Hawaiians.

Number of Respondents: 7.

Estimated Average Burden per Response: 40 hours.

Estimated Total Annual Burden: 280 hours.

Total Annualized capital/startup costs: n/a.

Total Annual costs: $7,933.

Dated: July 25, 2018.
Kim Miller,
Grants Management Specialist, Institute of Museum and Library Services.

[FR Doc. 2018-16184 Filed 7-27-18; 8:45 am]

BILLING CODE 7036-01-P